DEPARTMENT OF TRANSPORTATION

Federal Aviation Administration

14 CFR Part 39

[Docket No. FAA-2009-0226; Directorate Identifier 2007-SW-35-AD]

RIN 2120-AA64

Airworthiness Directives; Agusta S.p.A. Model A109E, A109S, A119, and AW119MKII Helicopters

AGENCY: Federal Aviation Administration (FAA), DOT.

ACTION: Notice of proposed rulemaking (NPRM).

SUMMARY: We propose to adopt a new airworthiness directive (AD) for Agusta S.p.A. (Agusta) Model A109E, A109S, A119, and AW119MKII helicopters. This proposed AD results from mandatory continuing airworthiness information (MCAI) originated by an aviation authority of another country to identify and correct an unsafe condition on an aviation product. The European Aviation Safety Agency (EASA), the Technical Agent for the aviation authority of Italy, with which we have a bilateral agreement, has issued an MCAI AD which states that two cases of cracks on a certain cargo hook lever (lever) have been reported by the manufacturer of the cargo hook. This lever is a critical structural component of the cargo hook, and a crack could result in inadvertent loss of the cargo hook load. The proposed AD would require actions that are intended to address the unsafe condition caused by cracks in the cargo hook lever.

DATES: We must receive comments on this proposed AD by April 22, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Agusta, Via Giovanni Agusta, 520 21017 Cascina Costa di Samarate (VA), Italy, telephone 39 0331-229111, fax 39 0331-229605/222595, or at http://customersupport.agusta.com/technical_advice.php.

EXAMINING THE DOCKET: You may examine the AD docket on the Internet at http://www.regulations.gov or in person at the Docket Operations office between 9 a.m. and 5 p.m., Monday through Friday, except Federal holidays. The AD docket contains this proposed AD, the economic evaluation, any comments received, and other information. The street address for the Docket Operations office (telephone (800) 647-5527) is in the ADDRESSES section. Comments will be available in the AD docket shortly after receipt.

FOR FURTHER INFORMATION CONTACT: John Strasburger, Aviation Safety Engineer, FAA, Rotorcraft Directorate, Regulations and Policy Group, 2601 Meacham Blvd., Fort Worth, Texas 76137; telephone (817) 222-5167; fax (817) 222-5961.

SUPPLEMENTARY INFORMATION:

Comments Invited

We invite you to send any written relevant data, views, or arguments about this proposed AD. Send your comments to an address listed under the ADDRESSES section. Include “Docket No. FAA-2009-0226; Directorate Identifier 2007-SW-35-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

EASA, which is the Technical Agent for the Member States of the European Community, has issued EASA Emergency AD No. 2007-0160-E, dated June 7, 2007 (referred to after this as “the MCAI”), to correct an unsafe condition for these Italian-manufactured products. The MCAI states that two cases of cracks in the cargo hook lever (lever), part number (P/N) 232-028-00, have been reported by the manufacturer of the cargo hook. The lever is a component of the cargo hook, P/N 528-010-01. This lever is a critical structural component of the cargo hook, and a crack could result in inadvertent loss of the cargo hook load.

You may obtain further information by examining the MCAI and service information in the AD docket.

Relevant Service Information

Agusta has issued Alert Bollettino Tecnico (ABT) No. 109EP-78, ABT No. 109S-12, and ABT No. 119-21, all dated June 6, 2007. The actions described in the MCAI are intended to correct the same unsafe condition as that identified in the service information.

FAA's Determination and Proposed Requirements

These products have been approved by the aviation authority of Italy, and are approved for operation in the United States. Pursuant to our bilateral agreement with this State of Design Authority, we have been notified of the unsafe condition described in the MCAI and service information. We are proposing this AD because we evaluated all pertinent information and determined an unsafe condition exists and is likely to exist or develop on other products of these same type designs.

Differences Between This AD and the MCAI AD

We have reviewed the MCAI and, in general, agree with its substance. However, we have made the following changes:

• Excluded the August 31, 2007 compliance date because that date has passed;

• Excluded the Model A109LUH from the applicability and do not reference Agusta ABT No. 109L-006 because the Model A109LUH helicopter is not on the U.S. type certificate, H7EU;

• Added the Model AW119MKII to the applicability;

• Proposed to require the use of a 10-power or higher magnifying glass to accomplish the visual inspections; and

• Excluded the kit installation P/N, relying instead on the cargo hook and lever P/N.

These differences are highlighted in the “Differences Between the FAA AD and the MCAI AD” section in the proposed AD.

Costs of Compliance

We estimate that this proposed AD would affect about 26 helicopters on the U.S. Registry with the cargo hook. We also estimate that it would take about 10 minutes to inspect each cargo hook for a crack, and about 1 work-hour to replace a cracked cargo hook. The average labor rate is $80 per work-hour. Required parts would cost about $3,677 per cargo hook. Based on these figures, we estimate the cost of the proposed AD on U.S. operators to be $97,647 per year, assuming that each affected helicopter would require five inspections per week, and that two cargo hooks would have to be replaced each year.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Agusta S.p.A.: Docket No. FAA-2008-0226; Directorate Identifier 2007-SW-35-AD.

Comments Due Date

(a) We must receive comments by April 22, 2009.

Other Affected ADs

(b) None.

Applicability

(c) This AD applies to Model A109E, A109S, A119, and AW119MKII helicopters with cargo hook, part number (P/N) 528-010-01, and cargo hook lever, P/N 232-028-00, installed, certificated in any category.

Reason

(d) The mandatory continuing airworthiness information (MCAI) states that two cases of cracks in the lever, P/N 232-028-00, have been reported by the manufacturer of the cargo hook. The lever is a component of the cargo hook, P/N 528-010-01. This lever is a critical structural component of the cargo hook, and a crack could result in inadvertent loss of the cargo hook load.

Actions and Compliance

(e) Before each cargo hook operation, visually inspect the cargo hook lever, P/N 232-028-00, for any crack. Use a 10-power or higher magnifying glass and inspect in the area depicted in Figures 1 and 2 of the following Agusta Alert Bollettino Tecnico (ABT), all dated June 6, 2007:

(1) ABT No. 109EP-78 for Model A109E helicopters;

(2) ABT No. 109S-12 for Model A109S helicopters; or

(3) ABT No. 119-21 for Model A119 helicopters.

(f) If a crack is found in the lever, do not use the cargo hook until the entire cargo hook is replaced with an airworthy cargo hook with an uncracked lever.

Differences Between the FAA AD and the MCAI AD

(g) This AD differs from the MCAI AD in that we:

(1) Exclude the August 31, 2007 compliance date because that date has passed;

(2) Exclude the Model A109LUH from the applicability and do not reference Agusta ABT No. 109L-006 because the Model A109LUH helicopter is not on the U.S. type certificate, H7EU;

(3) Add the Model AW119MKII to the applicability;

(4) Require the use of a 10-power or higher magnifying glass to accomplish the visual inspections; and

(5) Exclude the kit installation P/N, relying instead on the cargo hook and lever P/N.

Other Information

(h) Alternative Methods of Compliance (AMOCs): The Manager, Safety Management Group, FAA, has the authority to approve AMOCs for this AD, if requested using the procedures found in 14 CFR 39.19. Send information to Attn: John Strasburger, Aviation Safety Engineer, Regulations and Policy Group, Rotorcraft Directorate, FAA, 2601 Meacham Blvd., Fort Worth, TX 76137; telephone (817) 222-5167; fax (817) 222-5961.

Related Information

(i) EASA Emergency AD No. 2007-0160-E, dated June 7, 2007, contains related information.

Air Transport Association of America (ATA) Tracking Code

(j) Air Transport Association of America (ATA) Code 2550: Cargo Compartments.

Issued in Fort Worth, Texas on March 4, 2009.
Jerald E. Strentz,
Acting Manager, Rotorcraft Directorate, Aircraft Certification Service.

[FR Doc. E9-6224 Filed 3-20-09; 8:45 am]

BILLING CODE 4910-13-P